DEPARTMENT OF COMMERCE

International Trade Administration

[A-489-826]

Certain Hot-Rolled Steel Flat Products From the Republic of Turkey: Rescission of Antidumping Duty Administrative Review; 2019-2020

AGENCY: Enforcement and Compliance, International Trade Administration, Department of Commerce.

SUMMARY: The Department of Commerce (Commerce) is rescinding the administrative review of the antidumping duty order on certain hot-rolled steel flat products (hot-rolled steel) from the Republic of Turkey (Turkey) covering the period of review (POR) October 1, 2019, through September 30, 2020, based on the timely withdrawal of the request for review.

DATES: Applicable February 26, 2021.

FOR FURTHER INFORMATION CONTACT: Lingjun Wang, AD/CVD Operations, Office VII, Enforcement and Compliance, International Trade Administration, U.S. Department of Commerce, 1401 Constitution Avenue NW, Washington, DC 20230; telephone: (202) 482-2316.

SUPPLEMENTARY INFORMATION:

Background

On October 1, 2020, Commerce published a notice of opportunity to request an administrative review of the antidumping duty order on hot-rolled steel ¹ from Turkey for the POR.² On October 30, 2020, ArcelorMittal USA LLC, Nucor Corporation, SSAB Enterprises, LLC, Steel Dynamics, Inc., and United States Steel Corporation (collectively, the petitioners) timely requested an administrative review of the antidumping duty order with respect to fourteen producers and/or exporters.³ Commerce received no other requests for an administrative review of the antidumping duty order.

¹ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016) (Order).

² See Antidumping or Countervailing Duty Order, Finding, or Suspended Investigation; Opportunity to Request Administrative Review, 85 FR 61926 (October 1, 2020).

³ See Petitioners' Letter, “Hot-Rolled Steel Flat Products from Turkey—Petitioners' Request for 2019/2020 Administrative Review,” dated October 30, 2020.

On December 8, 2020, pursuant to section 751(a) of the Tariff Act of 1930, as amended (the Act), and 19 CFR 351.221(c)(1)(i), we initiated this administrative review of the Order covering fourteen producers and/or exporters of the subject merchandise.⁴ On January 4, 2021, the petitioners timely withdrew their request for review in its entirety.⁵

⁴ See Initiation of Antidumping and Countervailing Duty Administrative Reviews, 85 FR 78990 (December 8, 2020) (Initiation Notice). We released U.S. Customs and Border Protection (CBP) import data to eligible parties. See Memorandum, “Release of U.S. Customs Entry Data for Respondent Selection,” dated December 8, 2020. Agir Haddecilik A.S., Habaş Sinai ve Tibbi Gazlar Istihsal Endustrisi A.S., Toscelik Profil ve Sac End. A.S., a/k/a Toscelik Profile and Sheet Ind. Co. and Tosyali Holding (collectively, Toscelik), and Erdemir Group (Eregli Demir ve Celik Fabrikalari T.A.S. and Iskenderun Iron and Steel Works Ltd. a/k/a/ Iskenderun Demir ve Celik A.S.) filed no shipment certifications. See Agir's Letter, “Hot Rolled Steel Flat Products, A-489-826: Antidumping Duty Administrative Review (10/1/19-9/30/20),” dated December 17, 2020, see also Habas' Letter, “Hot-Rolled Steel Flat Products from Turkey; Habas No Shipment Letter,” dated December 30, 2020; Toscelik's Letter, “Hot-Rolled Steel Flat Products from Turkey: Toscelik No Shipments Letter,” dated December 30, 2020; and Erdemir Group's Letter, “Hot-Rolled Steel Flat Products from Turkey: Erdemir No-Shipments letter,” dated January 4, 2021.

⁵ See Petitioners' Letter, “Hot-Rolled Steel Flat Products from Turkey—Withdrawal of Request for Administrative Review,” dated January 4, 2021.

Rescission of Administrative Review

Pursuant to 19 CFR 351.213(d)(1), Commerce will rescind an administrative review, in whole or in part, if a party that requested a review withdraws the request within 90 days of the date of publication of notice of initiation of the requested review. As noted above, the petitioners withdrew their request for review within 90 days of the publication date of the Initiation Notice. No other parties requested an administrative review of the Order. Therefore, in accordance with 19 CFR 351.213(d)(1), we are rescinding this administrative review in its entirety.

Assessment Rates

Commerce will instruct U.S. Customs and Border Protection (CBP) to assess antidumping duties on all appropriate entries of hot-rolled steel from Turkey at a rate equal to the cash deposit rate of estimated antidumping duties required at the time of entry, or withdrawal from warehouse, for consumption, during the POR, in accordance with 19 CFR 351.212(c)(1)(i). Commerce intends to issue appropriate assessment instructions to CBP no earlier than 35 days after the date of publication of this rescission notice in the Federal Register.

Notification to Importers

This notice also serves as a final reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

This notice is issued and published in accordance with sections 751(a)(1) and 777(i)(1) of the Act, and 19 CFR 351.213(d)(4).

Dated: February 22, 2021.
James Maeder,
Deputy Assistant Secretary for Antidumping and Countervailing Duty Operations.

[FR Doc. 2021-03998 Filed 2-25-21; 8:45 am]

BILLING CODE 3510-DS-P